DEPARTMENT OF ENERGY

Federal Energy Regulatory Commission

Combined Notice of Filings # 1

Take notice that the Commission received the following electric corporate filings:

Docket Numbers: EC23-64-000.

Applicants: Porterhouse Wind (4) LLC.

Description: Porterhouse Wind (4) LLC submits Supplement to Application for Authorization Under Section 203 of May 8, 2023.

Filed Date: 5/17/23.

Accession Number: 20230517-5224.

Comment Date: 5 p.m. ET 5/30/23.

Take notice that the Commission received the following exempt wholesale generator filings:

Docket Numbers: EG23-156-000. Applicants: Harvest Gold Solar Power, LLC.

Description: Harvest Gold Solar Power, LLC submits Notice of Self-Certification of Exempt Wholesale Generator Status.

Filed Date: 5/18/23.

Accession Number: 20230518-5052.

Comment Date: 5 p.m. ET 6/8/23.

Docket Numbers: EG23-157-000.

Applicants: SMT Alamo LLC.

Description: SMT Alamo LLC submits Notice of Self-Certification of Exempt Wholesale Generator Status.

Filed Date:. 5/18/23.

Accession Number: 20230518-5089.

Comment Date: 5 p.m. ET 6/8/23.

Docket Numbers: EG23-158-000.

Applicants: SMT Santa Rosa LLC.

Description: SMT Santa Rosa LLC submits Notice of Self-Certification of Exempt Wholesale Generator Status.

Filed Date: 5/18/23.

Accession Number: 20230518-5092.

Comment Date: 5 p.m. ET 6/8/23.

Docket Numbers: EG23-159-000.

Applicants: SMT Bay City LLC.

Description: SMT Bay City LLC submits Notice of Self-Certification of Exempt Wholesale Generator Status.

Filed Date: 5/18/23.

Accession Number: 20230518-5094.

Comment Date: 5 p.m. ET 6/8/23.

Docket Numbers: EG23-160-000.

Applicants: SMT Elsa LLC.

Description: SMT Elsa LLC submits Notice of Self-Certification of Exempt Wholesale Generator Status.

Filed Date: 5/18/23.

Accession Number: 20230518-5121.

Comment Date: 5 p.m. ET 6/8/23.

Docket Numbers: EG23-161-000.

Applicants: SMT Mercedes LLC.

Description: SMT Mercedes LLC submits Notice of Self-Certification of Exempt Wholesale Generator Status.

Filed Date: 5/18/23.

Accession Number: 20230518-5128.

Comment Date: 5 p.m. ET 6/8/23.

Take notice that the Commission received the following electric rate filings:

Docket Numbers: ER20-2004-004.

Applicants: Public Service Electric and Gas Company, PJM Interconnection, L.L.C.

Description: Compliance filing: Public Service Electric and Gas Company submits tariff filing per 35: PSEG Deficiency Response re Order 864 Compliance in ER20-2004 to be effective N/A.

Filed Date: 5/18/23.

Accession Number: 20230518-5091.

Comment Date: 5 p.m. ET 6/8/23.

Docket Numbers: ER22-1980-003.

Applicants: Deuel Harvest Wind Energy LLC.

Description: Compliance filing: Deuel Harvest Wind Reactive Service Tariff Compliance Filing to be effective 8/1/2022.

Filed Date: 5/18/23.

Accession Number: 20230518-5104.

Comment Date: 5 p.m. ET 6/8/23.

Docket Numbers: ER23-1907-000.

Applicants: Red Barn Energy, LLC.

Description: Tariff Amendment: Cancellation of MBR Tariff 05.17.23 to be effective 5/18/2023.

Filed Date: 5/17/23.

Accession Number: 20230517-5124.

Comment Date: 5 p.m. ET 6/7/23.

Docket Numbers: ER23-1908-000.

Applicants: Southwest Power Pool, Inc.

Description: § 205(d) Rate Filing: Attachment AA Clean-Up Filing to be effective 2/14/2023.

Filed Date: 5/18/23.

Accession Number: 20230518-5037.

Comment Date: 5 p.m. ET 6/8/23.

Docket Numbers: ER23-1909-000.

Applicants: PJM Interconnection, L.L.C.

Description: § 205(d) Rate Filing: Amendment to ISA, SA No. 3607; Queue No. Y2-109 (amend) to be effective 7/18/2023.

Filed Date: 5/18/23.

Accession Number: 20230518-5038.

Comment Date: 5 p.m. ET 6/8/23.

Docket Numbers: ER23-1910-000.

Applicants: PJM Interconnection, L.L.C.

Description: § 205(d) Rate Filing: Original WMPA, SA No. 6915; Queue No. AF2-039/AF2-088 to be effective 7/18/2023.

Filed Date: 5/18/23.

Accession Number: 20230518-5040.

Comment Date: 5 p.m. ET 6/8/23.

Docket Numbers: ER23-1911-000.

Applicants: PJM Interconnection, L.L.C.

Description: § 205(d) Rate Filing: Original ISA, SA No. 6907; Queue No. AF2-154 to be effective 4/28/2023.

Filed Date: 5/18/23.

Accession Number: 20230518-5044.

Comment Date: 5 p.m. ET 6/8/23.

Docket Numbers: ER23-1912-000.

Applicants: Arizona Public Service Company.

Description: § 205(d) Rate Filing: Rate Schedule No. 224, Amendment No. 3 to be effective 7/18/2023.

Filed Date: 5/18/23.

Accession Number: 20230518-5045.

Comment Date: 5 p.m. ET 6/8/23.

Docket Numbers: ER23-1913-000.

Applicants: PJM Interconnection, L.L.C.

Description: § 205(d) Rate Filing: Original ISA, SA No. 6909; Queue No. AF2-156 to be effective 4/28/2023.

Filed Date: 5/18/23.

Accession Number: 20230518-5053.

Comment Date: 5 p.m. ET 6/8/23.

Docket Numbers: ER23-1914-000.

Applicants: New York Independent System Operator, Inc.

Description: Tariff Amendment: Notice of Cancellation of Scnd Amnd LGIA SA 2535 among NYISO, Con Edison and NRG to be effective 7/18/2023.

Filed Date: 5/18/23.

Accession Number: 20230518-5054.

Comment Date: 5 p.m. ET 6/8/23.

Docket Numbers: ER23-1915-000.

Applicants: Southwest Power Pool, Inc.

Description: § 205(d) Rate Filing: 4062 Southwestern Power Admin/City of Poplar Bluff MOInt Agr to be effective 4/1/2023.

Filed Date: 5/18/23.

Accession Number: 20230518-5082.

Comment Date: 5 p.m. ET 6/8/23.

Docket Numbers: ER23-1916-000.

Applicants: CPV Canton Mountain Wind, LLC.

Description: § 205(d) Rate Filing: Notice of Succession to Market-Based Rate Tariff to be effective 5/19/2023.

Filed Date: 5/18/23.

Accession Number: 20230518-5095.

Comment Date: 5 p.m. ET 6/8/23.

Docket Numbers: ER23-1917-000.

Applicants: CPV Saddleback Ridge Wind, LLC.

Description: § 205(d) Rate Filing: Notice of Succession to Market-Based Rate Tariff to be effective 5/19/2023.

Filed Date: 5/18/23.

Accession Number: 20230518-5108.

Comment Date: 5 p.m. ET 6/8/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2023.
Debbie-Anne A. Reese,
Deputy Secretary.

[FR Doc. 2023-11035 Filed 5-23-23; 8:45 am]

BILLING CODE 6717-01-P